DEPARTMENT OF COMMERCE

Foreign-Trade Zones Board

Foreign-Trade Zone 43—Battle Creek, MI; Site Renumbering Notice

Foreign-Trade Zone 43 was approved by the FTZ Board on October 19, 1978 (Board Order 138, 43 FR 50233, 10/27/78), and expanded on December 27, 1990 (Board Order 496, 56 FR 675, 1/8/91), January 3, 1992 (Board Order 554, 57 FR 1143, 1/10/92 and Board Order 555, 57 FR 1143, 1/10/92), and June 20, 1997 (Board Order 897, 62 FR 36044, 7/3/97 and Board Order 898, 62 FR 36043, 7/3/97).

FTZ 43 currently consists of 5 “sites” totaling 1,820 acres in the Battle Creek, Michigan area. The current update does not alter the physical boundaries that have previously been approved, but instead involves an administrative renumbering that separates certain non-contiguous sites for record-keeping purposes.

Under this revision, the site list for FTZ 43 will be as follows: Site 1 (1,710 acres)—within the Fort Custer Industrial Park, Battle Creek; Site 2 (21 acres)—Columbia West Industrial Park, Battle Creek; Site 3 (23 acres)—6677 Beatrice Drive in Texas Township (Kalamazoo County); Site 4 (22 acres)—8250 Logistic Drive, Zeeland Township (Ottawa County), some 20 miles southwest of Grand Rapids; Site 5 (30 acres)—located within the 120-acre St. Joseph River Harbor Development Area adjacent to Lake Michigan in Benton Harbor (Berrien County), some 50 miles east of Battle Creek; Site 7 (14 acres)—72100 Highway M-40 South, Lawton (Van Buren County); and Site 8 (50,000 sq. ft.)—located at 1609 Parnall Road, Jackson (approved on a temporary basis until 1/31/11).

For further information, contact Elizabeth Whiteman at Elizabeth.Whiteman@trade.gov or (202) 482-0473.

Dated: August 25, 2010.
Andrew McGilvray,
Executive Secretary.

[FR Doc. 2010-21572 Filed 8-27-10; 8:45 am]

BILLING CODE P